DEPARTMENT OF AGRICULTURE

Forest Service

Lolo and Kootenai National Forests' Sanders County Resource Advisory Committee

AGENCY: Forest Service, USDA.

ACTION: Notice of Sanders County Resource Advisory Committee Meetings.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on July 21, 2011 at 7 p.m. and on August 11, 2011 at 7 p.m. in Thompson Falls, Montana for business meetings. These meetings are open to the public. The committee will meet on June 18, 2011 in Thompson Falls, Montana for a field trip to project sites. This trip is open to the public.

DATES: June 18, 2011; July 21, 2011; August 11, 2011.

ADDRESSES: The meetings will be held at the Thompson Falls Courthouse, 1111 Main Street, Thompson Falls, MT 59873.

FOR FURTHER INFORMATION CONTACT: Randy Hojem, Designated Federal Official (DFO), District Ranger, Plains Ranger District, Lolo National Forest at (406) 826-3821.

SUPPLEMENTARY INFORMATION: The June 18, 2011 meeting will include a field trip to project sites. The July 21, 2011 meeting agenda will include an overview of all 2011 project proposal submissions. The August 11, 2011 meeting will be a voting meeting where the committee will recommend projects for 2011 funding. If the meeting location is changed, notice will be posted in the local newspapers, including the Clark Fork Valley Press, and Sanders County Ledger.

Dated: May 24, 2011.
Randy R. Hojem,
District Ranger.

[FR Doc. 2011-15832 Filed 6-23-11; 8:45 am]

BILLING CODE 3410-11-P